DEPARTMENT OF THE TREASURY

Office of Foreign Assets Control

31 CFR Parts 500, 501, 505, 515, 535, 536, 537, 538, 539, 540, 545, 550, 560, 575, 585, 586, 587, 588, 590, 591, 594, 595, 596, 597, and 598

Foreign Assets Control Regulations; Reporting and Procedures Regulations; Cuban Assets Control Regulations: Publication of Revised Civil Penalties Hearing Regulations

AGENCY: Office of Foreign Assets Control, Treasury.

ACTION: Notice of proposed rulemaking by cross-reference to interim final rule.

SUMMARY: The Office of Foreign Assets Control (“OFAC”) of the U.S. Department of the Treasury (“Treasury”) is proposing to adopt as a final rule the interim final rule published elsewhere in this issue of the Federal Register that revises its civil penalties regulations promulgated pursuant to the Trading with the Enemy Act. These revisions consolidate substantive changes to the Foreign Assets Control Regulations, and the Cuban Assets Control Regulations, in a new subpart of the Reporting and Procedures Regulations, renamed Reporting, Procedures, and Penalties Regulations. Conforming changes are made to the other parts of the regulations.

DATES: Written comments may be submitted on or before October 14, 2003.

ADDRESSES: Comments may be submitted by mail, by facsimile, or through OFAC's Web site. Because paper mail in the Washington, DC area may be subject to delay, electronic mail submission is recommended.

Mailing address: Chief of Records, ATTN Request for Comments, Office of Foreign Assets Control, Department of the Treasury, 1500 Pennsylvania Avenue, NW., Washington, DC 20220.

Facsimile number: (202) 622-1657.

OFAC's Web site: <http://www.treas.gov/ofac.html>.

FOR FURTHER INFORMATION CONTACT: Chief of Penalties, tel.: (202) 622-6140, or Chief Counsel, tel.: (202) 622-2410.

SUPPLEMENTARY INFORMATION:

I. The Proposed Rule

Published elsewhere in this separate part of the Federal Register is an interim final rule by which OFAC is revising its civil penalties regulations promulgated pursuant to the Trading with the Enemy Act. These revisions consolidate substantive changes to the Foreign Assets Control Regulations, 31 CFR part 500, and the Cuban Assets Control Regulations, 31 CFR part 515, in a new subpart of the Reporting and Procedures Regulations, 31 CFR part 501, renamed Reporting, Procedures, and Penalties Regulations. Conforming changes are made to the other parts of 31 CFR chapter V. The preamble to the interim final rule explains these provisions of the proposed rule in detail, and the text of the interim final rule serves as the text for this proposed rule.

II. Procedural Requirements

Because this interim final rule pertains to a foreign affairs function of the United States, it is not subject to Executive Order 12866.

Although we are issuing this notice of proposed rulemaking to obtain public comments on the interim final rule published elsewhere in this separate part of this issue of the Federal Register, notice and public procedure are not required for the reasons stated in the preamble to the interim final rule. Because no notice of proposed rulemaking is required, the provisions of the Regulatory Flexibility Act (5 U.S.C. chapter 6) do not apply.

The collections of information in the proposed rule arise during the conduct of administrative actions or investigations by OFAC against specific individuals or entities. Pursuant to 44 U.S.C. 3518(c)(1)(B)(ii), these collections are not subject to the requirements of the Paperwork Reduction Act.

List of Subjects

31 CFR Part 500

Administrative practice and procedure, Banks, Banking, Cambodia, Currency, Foreign claims, Foreign investments in United States, Foreign trade, Korea, Democratic Peoples Republic of, Penalties, Reporting and recordkeeping requirements, Sanctions, Securities, Vietnam.

31 CFR Part 501

Administrative practice and procedure, Penalties, Reporting and recordkeeping requirements, Sanctions.

31 CFR Part 505

Administrative practice and procedure, Penalties, Foreign trade, Sanctions.

31 CFR Part 515

Administrative practice and procedure, Banks, Banking, Cuba, Currency, Foreign investments in United States, Foreign trade, Penalties, Reporting and recordkeeping requirements, Sanctions, Securities, Travel restrictions.

31 CFR Part 535

Administrative practice and procedure, Iran, Sanctions.

31 CFR Part 536

Administrative practice and procedure, Narcotics, Sanctions.

31 CFR Part 537

Administrative practice and procedure, Burma, Sanctions.

31 CFR Part 538

Administrative practice and procedure, Sanctions, Sudan.

31 CFR Part 539

Administrative practice and procedure, Sanctions, Weapons of mass destruction.

31 CFR Part 540

Administrative practice and procedure, Highly enriched uranium, Sanctions.

31 CFR Part 545

Administrative practice and procedure, Afghanistan, Sanctions.

31 CFR Part 550

Administrative practice and procedure, Libya, Sanctions.

31 CFR Part 560

Administrative practice and procedure, Iran, Sanctions.

31 CFR Part 575

Administrative practice and procedure, Iraq, Sanctions.

31 CFR Part 585

Administrative practice and procedure, Sanctions, Federal Republic of Yugoslavia.

31 CFR Part 586

Administrative practice and procedure, Sanctions, Federal Republic of Yugoslavia.

31 CFR Part 587

Administrative practice and procedure, Sanctions, Federal Republic of Yugoslavia.

31 CFR Part 588

Administrative practice and procedure, Sanctions, Western Balkans.

31 CFR Part 590

Administrative practice and procedure, Angola, Sanctions.

31 CFR Part 591

Administrative practice and procedure, Diamonds, Sanctions.

31 CFR Part 594

Administrative practice and procedure, Sanctions, Global terrorism.

31 CFR Part 595

Administrative practice and procedure, Sanctions, Terrorism.

31 CFR Part 596

Administrative practice and procedure, Sanctions, Terrorism.

31 CFR Part 597

Administrative practice and procedure, Sanctions, Terrorism.

31 CFR Part 598

Administrative practice and procedure, Narcotics, Sanctions.

Authority and Issuance

For the reasons set forth above, OFAC proposes to adopt as a final rule the interim final rule providing revisions to its civil penalties regulations promulgated pursuant to the Trading with the Enemy Act.

[The text of the proposed amendments is the same as the text of the interim final rule published elsewhere in this separate part of this issue of the Federal Register.]

Dated: August 29, 2003.
R. Richard Newcomb,
Director, Office of Foreign Assets Control.
Approved: August 29, 2003.
Juan Zarate,
Deputy Assistant Secretary (Terrorist Financing and Financial Crimes), Department of the Treasury.

[FR Doc. 03-22969 Filed 9-5-03; 4:30 pm]

BILLING CODE 4810-25-P